Title 3—

The President

Proclamation 9803 of October 9, 2018

National Domestic Violence Awareness Month, 2018

By the President of the United States of America

A Proclamation

This Nation—founded on principles of liberty and justice—has no tolerance for domestic violence. Personal relationships should be a source of comfort and support—a solid foundation for each person's empowerment and achievement in his or her daily life. Domestic violence dissolves that foundation, affecting millions of women and men every year. During National Domestic Violence Awareness Month, we reassert our commitment to eradicating this devastating crime so that homes are places of refuge and love—not of fear or violence.

Horrific and criminal acts of domestic violence are unfortunately common in all areas of the world. While people of every race, sex, age, and socioeconomic status have suffered at the hands of abusers, the vast majority of domestic violence is perpetrated against women. Each of us has a moral obligation to speak up for those who suffer from physical, sexual, and emotional abuse. We pledge to advocate on behalf of those who have been assaulted at home, and to make every effort to prevent domestic violence from happening in the first place. We acknowledge the hard work of the many advocates, clergy, service providers, healthcare providers, educators, law enforcement officers, family members, and friends who assist and comfort those who have suffered physical or emotional trauma at the hands of an abuser.

My Administration, in partnership with State, local, and tribal governments as well as public and private organizations, is working to ensure that offenders are prosecuted and survivors get the support they need to live lives free from fear, torment, and violence. My fiscal year 2019 budget proposal includes a $5.5 million increase in funding for programs administered by the Department of Justice's Office on Violence Against Women, which would bring total funding to approximately $500 million. This office coordinates the efforts of diverse organizations to prevent and respond to abuse, and has awarded more than $7 billion in grants and cooperative agreements to State, local, and tribal governments, as well as private organizations since its inception. It also funds law enforcement efforts that hold domestic violence offenders accountable for their crimes. Each year, these officers respond to more than 150,000 calls for service, investigate more than 150,000 cases, and refer more than 70,000 cases to prosecutors.

In addition, the Department of Health and Human Services is supporting initiatives to train healthcare providers to assist those who have endured domestic violence and implement initiatives that prevent domestic violence in the first place. Through the Department's Project Catalyst, clinics are checking patients for signs of domestic violence and connecting people in need to local service providers. The Centers for Disease Control and Prevention's DELTA IMPACT program is also providing funding to State health departments to implement community and societal-level strategies to reduce the incidence of domestic violence in our homes and communities.

This month, we recognize that, while our Nation has made strides in preventing domestic violence from first occurring and also prosecuting perpetrators who commit these horrible crimes, much work remains to be done. To ensure the protection of all Americans, especially women and children, we must strive to end domestic violence—in all its forms—from our society and help victims recover from abuse. And we must encourage Americans affected by domestic violence to seek help from those they trust and to never lose hope in the possibility of building a better life.

NOW, THEREFORE, I, DONALD J. TRUMP, President of the United States of America, by virtue of the authority vested in me by the Constitution and the laws of the United States, do hereby proclaim October 2018 as National Domestic Violence Awareness Month. I call upon all Americans to stand firm in condemning domestic violence and supporting survivors of these crimes in finding the safety and recovery they need. I also call upon all Americans to support, recognize, and trust in the efforts of law enforcement, public health, and social service providers to hold offenders accountable, protect victims of crime and their communities, and prevent future violence.

IN WITNESS WHEREOF, I have hereunto set my hand this ninth day of October, in the year of our Lord two thousand eighteen, and of the Independence of the United States of America the two hundred and forty-third.

[FR Doc. 2018-22557

Filed 10-12-18; 11:15 am]

Billing code 3295-F9-P